DEPARTMENT OF ENERGY

Federal Energy Regulatory Commission

Combined Notice of Filings

Take notice that the Commission has received the following Natural Gas Pipeline Rate and Refund Report filings:

Filings Instituting Proceedings

Docket Numbers: RP17-376-000.

Applicants: Equitrans, L.P.

Description: Tariff Cancellation: Terminate Negotiated Rate Service Agreement—Range Resources Appalachia LLC to be effective 2/1/2017.

Filed Date: 1/31/17.

Accession Number: 20170131-5484.

Comments Due: 5 p.m. ET 2/13/17.

Docket Numbers: RP17-350-001.

Applicants: Eastern Shore Natural Gas Company.

Description: Compliance filing Errata to Filing to Comply with Order in Docket Nos. CP15-18-000, 001 to be effective 3/1/2017.

Filed Date: 2/1/17.

Accession Number: 20170201-5137.

Comments Due: 5 p.m. ET 2/13/17.

Docket Numbers: RP17-383-000.

Applicants: Northern Natural Gas Company.

Description: § 4(d) Rate Filing: 20170201 Miscellaneous Filing to be effective 3/4/2017.

Filed Date: 2/1/17.

Accession Number: 20170201-5104.

Comments Due: 5 p.m. ET 2/13/17.

Docket Numbers: RP17-384-000.

Applicants: Natural Gas Pipeline Company of America.

Description: § 4(d) Rate Filing: Negotiated Rate Filing—Nicor to be effective 2/1/2017.

Filed Date: 2/1/17.

Accession Number: 20170201-5128.

Comments Due: 5 p.m. ET 2/13/17.

Docket Numbers: RP17-385-000.

Applicants: Northern Natural Gas Company.

Description: § 4(d) Rate Filing: 20170201 Annual PRA Fuel Rates to be effective 4/1/2017.

Filed Date: 2/1/17.

Accession Number: 20170201-5148.

Comments Due: 5 p.m. ET 2/13/17.

Docket Numbers: RP17-386-000.

Applicants: Enable Gas Transmission, LLC.

Description: § 4(d) Rate Filing: Negotiated Rate Filing—February 2017 Spire 1005896 to be effective 2/1/2017.

Filed Date: 2/1/17.

Accession Number: 20170201-5201.

Comments Due: 5 p.m. ET 2/13/17.

Docket Numbers: RP17-387-000.

Applicants: Dauphin Island Gathering Partners.

Description: § 4(d) Rate Filing: Negotiated Rate Filing 2-1-2017 to be effective 2/1/2017.

Filed Date: 2/1/17.

Accession Number: 20170201-5221.

Comments Due: 5 p.m. ET 2/13/17.

Docket Numbers: RP17-388-000.

Applicants: Northern Border Pipeline Company.

Description: § 4(d) Rate Filing: James Valley Ethanol Neg Rate Agmt Revision to be effective 2/1/2017.

Filed Date: 2/1/17.

Accession Number: 20170201-5235.

Comments Due: 5 p.m. ET 2/13/17.

Docket Numbers: RP17-389-000.

Applicants: Cimarron River Pipeline, LLC.

Description: § 4(d) Rate Filing: Fuel Tracker 2017—Summer Season Rates to be effective 4/1/2017.

Filed Date: 2/1/17.

Accession Number: 20170201-5254.

Comments Due: 5 p.m. ET 2/13/17.

Docket Numbers: RP17-390-000.

Applicants: Questar Overthrust Pipeline, LLC.

Description: § 4(d) Rate Filing: Statement of Negotiated Rates Version 7.0.0, Simplot Phosphates to be effective 3/1/2017.

Filed Date: 2/1/17.

Accession Number: 20170201-5259.

Comments Due: 5 p.m. ET 2/13/17.

Docket Numbers: RP17-391-000.

Applicants: Cimarron River Pipeline, LLC.

Description: § 4(d) Rate Filing: Negotiated Rates 2017-02-01 to be effective 2/1/2017.

Filed Date: 2/1/17.

Accession Number: 20170201-5264.

Comments Due: 5 p.m. ET 2/13/17.

Docket Numbers: RP17-395-000.

Applicants: Equitrans, L.P.

Description: § 4(d) Rate Filing: Negotiated Capacity Release Agreements 2/8/17 to be effective 2/8/2017.

Filed Date: 2/8/17.

Accession Number: 20170208-5027.

Comments Due: 5 p.m. ET 2/21/17.

Docket Numbers: RP17-396-000.

Applicants: Equitrans, L.P.

Description: § 4(d) Rate Filing: Negotiated Rate Service Agreement—EQT Energy LPS to be effective 4/1/2017.

Filed Date: 2/10/17.

Accession Number: 20170210-5003.

Comments Due: 5 p.m. ET 2/22/17.

Docket Numbers: RP17-397-000.

Applicants: Dominion Transmission, Inc.

Description: § 4(d) Rate Filing: DTI—February 10, 2017 Nonconforming Service Agreement to be effective 4/1/2017.

Filed Date: 2/10/17.

Accession Number: 20170210-5039.

Comments Due: 5 p.m. ET 2/22/17.

Docket Numbers: RP17-398-000.

Applicants: Iroquois Gas Transmission System, L.P.

Description: § 4(d) Rate Filing: 02/10/17 Negotiated Rates—Consolidated Edison Energy Inc. (HUB) 2275-89 to be effective 2/9/2017.

Filed Date: 2/10/17.

Accession Number: 20170210-5139.

Comments Due: 5 p.m. ET 2/22/17.

Docket Numbers: RP17-313-001.

Applicants: Texas Eastern Transmission, LP.

Description: Compliance filing EQT 910900-RP17.-313 Compliance Filing to be effective 1/1/2017.

Filed Date: 2/13/17.

Accession Number: 20170213-5191.

Comments Due: 5 p.m. ET 2/27/17.

Docket Numbers: RP17-399-000.

Applicants: Iroquois Gas Transmission System, L.P.

Description: § 4(d) Rate Filing: 02/13/17 Negotiated Rates—Mercuria Energy America, Inc. (HUB) 7540-89 to be effective 2/12/2017.

Filed Date: 2/13/17.

Accession Number: 20170213-5198.

Comments Due: 5 p.m. ET 2/27/17.

Docket Numbers: RP17-400-000.

Applicants: Columbia Gas Transmission, LLC.

Description: § 4(d) Rate Filing: Negotiated Rate Agmts—Core to be effective 2/1/2017.

Filed Date: 2/13/17.

Accession Number: 20170213-5258.

Comments Due: 5 p.m. ET 2/27/17.

Docket Numbers: RP17-401-000.

Applicants: Rockies Express Pipeline LLC.

Description: § 4(d) Rate Filing: FL&U Electric Power Periodic Rate Adjustment 2017 to be effective 4/1/2017.

Filed Date: 2/13/17.

Accession Number: 20170213-5261.

Comments Due: 5 p.m. ET 2/27/17.

Docket Numbers: RP17-402-000.

Applicants: Northern Natural Gas Company.

Description: Northern Natural Gas submits report of the penalty and daily delivery variance charge (DDVC) revenues that have been credited to shippers under RP17-402.

Filed Date: 2/13/17.

Accession Number: 20170213-5333.

Comments Due: 5 p.m. ET 2/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2017.
Nathaniel J. Davis, Sr.,
Deputy Secretary.

[FR Doc. 2017-03350 Filed 2-17-17; 8:45 am]

BILLING CODE 6717-01-P